DEPARTMENT OF TRANSPORTATION

Pipeline and Hazardous Materials Safety Administration

[Docket No. RSPA-04-19914; Notice 1]

Pipeline Safety: Petition for Waiver; Enstar Natural Gas Company

AGENCY: Pipeline and Hazardous Materials Safety Administration (PHMSA), U.S. Department of Transportation (DOT).

ACTION: Notice; Petition for Waiver.

SUMMARY: Enstar Natural Gas Company (Enstar) has petitioned the Office of Pipeline Safety (OPS) for a waiver of the pipeline safety regulation that prohibits tracer wire from being wrapped around the pipe.

DATES: Persons interested in submitting written comments on the waiver request described in this Notice must do so by May 6, 2005. Late filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket. General information about the Federal pipeline safety program is available at http://ops.dot.gov.

Anyone is able to search the electronic form of all comments received into any of our dockets by the name of the individual submitting the comment (or signing the comment if submitted on behalf of an association, business, labor union, etc.). You may review DOT's complete Privacy Act Statement in the Federal Register published on April 11, 2000 (volume 65, number 70; pages 19477-78) or you may visit http://dms.dot.gov.

FOR FURTHER INFORMATION CONTACT: James Reynolds by phone at 202-366-2786, by fax at 202-366-4566, by mail at DOT, PHMSA, Office of Pipeline Safety, 400 7th Street, SW., Washington, DC 20590, or by e-mail at james.reynolds@dot.gov.

SUPPLEMENTARY INFORMATION: The pipeline safety regulation at 49 CFR 192.321(e), Installation of plastic pipe, requires plastic pipe that is not encased to have an electrically conducting wire or other means of locating the pipe while it is underground. Tracer wire may not be wrapped around the pipe and contact with the pipe must be minimized but is not prohibited. Tracer wire or other metallic elements installed for pipe locating purposes must be resistant to corrosion damage, either by use of coated copper wire or by other means.

Enstar is requesting a waiver from § 192.321(e) because lightning strikes are rare in their service area, and Enstar believes there will be more, not fewer, incidents on their pipeline if they are forced to discontinue the practice of wrapping tracer wire around their plastic pipe.

According to Enstar, the Bureau of Land Management (BLM) tracks occurrences of lightning strikes to monitor forest fire activity. BLM has lightning detection systems throughout Alaska in locations were lightning strikes are frequent, mainly north and west of the Alaska Range. Lightning strikes are recorded by electrical sensors at nine stations in Alaska. Where lightning strikes are not common, such as south and east of the Alaska Range, lightning detection systems are not installed. Enstar's service area is in south central Alaska, an area without lightning detection systems. Since 1972, Enstar's standard practice has been to wrap tracer wire around their plastic pipe. Because of the unique geographical and climatic conditions of the area, lightning strikes on their plastic pipe system are extremely rare. In 32 years, Enstar has recorded only one confirmed incident due to lightning strikes.

Enstar contends that their pipeline will suffer more damages if they are not allowed to wrap tracer wire around their pipeline. Enstar performs approximately 500 excavations per year due to third party damages and 17,000 to 18,000 line locates each year. Enstar contends that this regulation is designed to redress a problem that does not exist within the Enstar pipeline service area.

For the reasons cited above, Enstar is requesting a waiver from the pipeline requirements at § 192.321(e). Enstar's waiver request is available for review in the docket. OPS is seeking comments on the Enstar's waiver request. After the comments have been received and the comment period has ended, OPS will consider each comment and make a decision whether to grant or deny Enstar's waiver request. OPS' decision will be published in the Federal Register.

Authority: 49 U.S.C. 60118 (c) and 49 CFR 1.53.

Issued in Washington, DC, on March 17, 2005.
Theodore L. Willke,
Deputy Associate Administrator for Pipeline Safety.

[FR Doc. 05-6730 Filed 4-5-05; 8:45 am]

BILLING CODE 4910-60-P